DEPARTMENT OF TRANSPORTATION

National Highway Traffic Safety Administration

49 CFR Part 571

[Docket No. NHTSA-07-26833]

Federal Motor Vehicle Safety Standards; Child Restraint Systems Child Restraint Anchorage Systems

AGENCY: National Highway Traffic Safety Administration (NHTSA), Department of Transportation (DOT).

ACTION: Notice of public meeting, request for comments.

SUMMARY: NHTSA is having a public meeting to bring together a roundtable of child restraint and vehicle manufacturers, retailers, technicians, researchers and consumer groups to discuss ways to improve child safety through improving the design and increasing the use of child restraint systems. Through a combination of presentations by invited speakers and group discussions among roundtable attendees, the group will focus on the following topics at this meeting: improving Lower Anchors and Tethers for Children (LATCH) system designs, improving child side impact safety, and educating the public about LATCH. This notice announces the date, time and location of the meeting.

DATES: Public Meeting: The public meeting will be held on February 8, 2007, from 8:30 a.m. to 4:30 p.m. at the L'Enfant Plaza Hotel, 480 L'Enfant Plaza, SW., Washington, DC.

Comments: Written comments may be submitted to the agency and must be received no later than April 9, 2007.

FOR FURTHER INFORMATION CONTACT: Ms. Debbie Ascone, Office of Vehicle Safety, NHTSA, telephone 202-366-4383, e-mail Debbie.Ascone@dot.gov, or Ms. Deirdre Fujita, Chief Counsel's Office, NHTSA, telephone 202-366-2992, e-mail Dee.Fujita@dot.gov. Both officials may also be reached at 400 Seventh Street, SW., Washington, DC 20590.

ADDRESSES: Public meeting: The public meeting will be held at the L'Enfant Plaza Hotel, 480 L'Enfant Plaza, SW., Washington, DC 20024, telephone 202-484-1000.

Written comments: Written comments must refer to the docket number of this notice and be submitted by any of the following methods:

• Web site: http://dms.dot.gov. Follow the instructions for submitting comments on the DOT electronic docket site.

• Fax: 1-202-493-2251.

• Mail: Docket Management Facility; U.S. DOT, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

You may call Docket Management at 202-366-9324 and visit the Docket from 10 a.m. to 5 p.m., Monday through Friday.

Note that all comments received will be posted without change to http://dms.dot.gov, including any personal information provided. Please see the Privacy Act discussion under the heading “How do I prepare and submit comments?” at the end of this notice. Please see also the discussion there of confidential business information.

SUPPLEMENTARY INFORMATION:

Background

In March 1999, NHTSA issued a final rule that established Federal Motor Vehicle Safety Standard No. 225, “Child restraint anchorage systems,” which requires motor vehicle manufacturers to provide motorists with a new means of installing child restraints (64 FR 10786; March 5, 1999) in nearly all new passenger vehicles. The new means, named the “LATCH” ¹ system by industry, is a standardized child restraint anchorage system designed to be used exclusively for securing child restraints. Each vehicle LATCH system consists of an upper anchor point (top tether anchor) and two lower anchor points. Each lower anchor point includes a six millimeter (mm) diameter straight rod, or “bar,” that is located near the intersection of the seat cushion and seat back (“seat bight”) in a recessed position where they will not be felt by seated adult occupants.

¹ Lower Anchors and Tethers for Children (LATCH) system.

Each vehicle with at least two seating positions behind the front seat must have full LATCH systems (consisting of the two rigid lower bars and the top tether anchor) in at least two rear seating positions. If the vehicle has a third rear seating position, the vehicle must also have a top tether anchor at a third rear seating position.

The rule also required child restraint systems manufactured on or after September 1, 2002 to have components capable of attaching to the LATCH system. In addition, the rule required child restraints manufactured after that date to continue to be capable of being attached to a vehicle by way of the vehicle's belt system.

The LATCH system was phased into new vehicles from 1999 to 2002, beginning with the tether anchor in passenger cars in 1999 and ending with full implementation of the LATCH system for passenger cars, multipurpose passenger vehicles (including sport utility vehicles (SUVs) and vans), and light trucks and buses in September 2002.² Id.

² NHTSA estimated the benefits of the rule to be 36 to 50 lives saved per year, and 1,231 to 2,929 injuries prevented. Based on an estimated average total annual cost of $152 million, the cost per equivalent life saved was estimated to be from $2.1 to $3.7 million.

Implementing LATCH

The agency recognized early on that educating consumers about the new LATCH system would be crucial to the success of the system. After issuing the LATCH final rule, NHTSA met regularly with vehicle and child restraint manufacturers, retailers, and consumer groups on developing public information and marketing strategies to educate consumers about the new LATCH products becoming available on the market, including the correct use of the products. The groups last met in June and July 2002, in the months leading up to September 1 date on which the LATCH regulation became fully effective.

LATCH Use Survey and Report

To assess the progress made since 2002 and identify the possible needs for additional steps, NHTSA conducted a survey from April to October 2005 on the types of restraint systems that were being used to keep children safe while riding in passenger vehicles. The results of that survey were discussed in a report on the use and misuse of LATCH (“Child Restraint Use Survey—LATCH Use and Misuse,” Docket 26735) published in December 2006. NHTSA was interested in whether drivers of LATCH-equipped vehicles were using LATCH to secure their child restraints to the vehicle, and if so, whether they were properly installing the restraints. In the survey, the make/model and the type of restraint installed in each seating position were recorded for each vehicle, and the demographic characteristics and the type of child restraint system were collected for each occupant. In addition, information was gathered about the drivers' knowledge of booster seats and LATCH, along with their opinions on how easy it was for them to use LATCH.

A key finding of the survey was that of the child restraints located in a seating position equipped with an upper tether anchor, 55 percent were attached to the vehicle using the upper tether. Other findings included:

(a) In 13 percent of the LATCH equipped vehicles in which there was a child restraint, the restraint was placed in a seat position not equipped with lower anchors—instead, the vehicle seat belt was used to secure the restraint to the vehicle.

(b) Among the 87 percent who placed the child safety seat at a position equipped with lower anchors, 60 percent used the lower attachments to secure the restraint to the vehicle.

(c) Of those drivers with experience using both lower attachments and seat belts, (1) 81 percent of upper tether users and 74 percent of lower attachment users said upper tether and/or lower attachments were easy to use, and (2) 75 percent preferred the lower attachments over seat belts.

(d) Sixty-one (61) percent of upper tether nonusers and 55 percent of lower attachment nonusers cited their lack of knowledge—not knowing what the anchorages were, that they were available in the vehicle, the importance of using them, or how to use them properly—as the reason for not using them.

The LATCH report found that consumers who have experience with LATCH like it, and that LATCH is helping to reduce the insecure installation of child restraints. However, the report also indicated that proper use of LATCH is not inherently evident to parents. Many parents do not use LATCH because they do not know about it or understand its importance. Some use both the LATCH system and the seat belt system to install their child restraints. There is also some confusion about where LATCH anchors can be found. In addition, there were differing degrees of difficulty using the anchors depending on location and configuration of the child seat hardware.

Public Meeting

In light of the LATCH report, NHTSA is having a public meeting to bring together a roundtable of child restraint and vehicle manufacturers, retailers, technicians, researchers and consumer groups to discuss ways to make LATCH easier to use and better known. Through a combination of presentations by invited speakers and group discussions among roundtable participants, the group will focus on the following topics at this meeting: LATCH design improvements, child side impact safety improvements, and initiatives to educate the public about LATCH and seat belt use.

The meeting will be open to the public, but participation in the roundtable will be limited and by invitation only in order to ensure that all of the topics can be addressed in the time available. However, the floor will be open to the audience attending the meeting during the final part of the meeting. Anyone wishing to supplement their oral comments may do so by submitting written comments.

Roundtable participants should focus on the issues and questions listed below.

Regarding LATCH Design

The requirements for the top tether anchor were harmonized with Canadian and Australian requirements, particularly with respect to the zones within which the anchor may be located. The lower LATCH anchor bars must be located not so far forward on the vehicle seat so as to injure an adult occupant sitting on the seat, but not so rearward as to be too difficult to access. The presence of lower bars that are not visible without compressing the seat cushion or seat back must be indicated by a permanent mark on the vehicle seat back at each bar's location to help parents locate and use the bars.

NHTSA allows vehicle manufacturers to decide which rear seating positions are equipped with the two full LATCH systems. It does not require a full LATCH system to be in a center rear seating position. This flexibility was provided because, if two full LATCH systems are provided in the rear seat of a sedan-type vehicle, it may not be feasible to fit the lower anchor bars of the two LATCH systems side-by-side in two adjacent seating positions, or practical to fit two child restraints adjacent to each other in the rear seat of small vehicles. NHTSA does require the top tether anchor at the third rear seating position to be at the center position, to provide parents an improved means of attaching child restraints in a center rear seat.

Invited speakers are asked to speak to the following questions:

Tether Anchors

• What are the design considerations/constraints for locating tether anchors in various types of vehicles? Why do some SUVs, vans and trucks have tether anchors under the seat, etc., which consumers have found difficult to access when installing their child restraints?

• What can be done to make access to the upper and lower anchors easier or make the anchors more visible?

• What would be the feasibility and/or implications of further restricting where tether anchors may be placed by amending Standard 225?

Lower Anchors

• What feedback are you obtaining from consumers? Are you getting complaints?

• NHTSA has not had any complaints that the lower anchors are causing occupant discomfort. Would it be feasible and desirable to amend the seat bight depth requirement to require that anchors be located more forward in the seat bight? Would this make the installation and/or removal of child restraint systems easier?

• Are there any technical or other reasons why consumers who wish to place their child restraint in a rear center seat location using the inboard lower anchors from the outboard seating locations should not do so? If the child restraint can be snugly secured with this installation to “create” a middle LATCH seating position, is there any reason that doing this should be considered misuse?

• Will you be increasing over time the proportion of your fleet that is equipped with lower anchors in the center-rear position?

Child Seat Designs

• Are there child restraint hook designs that consumers find easier to install/remove?

• What would be the feasibility and/or implications of incorporating the most consumer friendly hooks in all child restraints?

Regarding LATCH Ease-of-Use

NHTSA is interested in improving information in its ease-of-use ratings for child restraints and could include information about features of LATCH hardware. We are also considering exploring the addition of information to the annual NHTSA publication, “Buying a Safer Car for Child Passengers,” on the number of seating positions with LATCH and on other matters related to LATCH, such as the degree of accessibility of the anchors.

Invited speakers are asked to speak to the following questions:

• What are the considerations in developing more consumer-friendly child restraint hooks or other features (e.g., what are the trade-offs in child restraint cost, ease-of-use ratings, and retail sales)?

• NHTSA is considering providing consumer information on LATCH anchor locations and the numbers of lower anchor-equipped seating positions in each vehicle make/model. What are your comments on this initiative?

• Should NHTSA provide consumer information on including use of inboard lower anchors to “create” a middle LATCH seating position?

• In the past, the agency has determined that given the number of child restraints and vehicle make/models, it was not feasible for the agency to test and provide vehicle child restraint ease-of-use ratings. Are there other approaches the agency should consider? Are there voluntary initiatives underway or being jointly considered by the child restraint and vehicle manufacturers that would provide useful consumer information regarding child restraint and vehicle ease-of-use compatibility?

Regarding Child Side Impact Protection

In 2002, NHTSA published an advance notice of proposed rulemaking (ANPRM) on work in developing a child restraint side impact protection standard (67 FR 21836; May 1, 2002; Docket 12151). The rulemaking was withdrawn because considerably more work was needed to support a Federal motor vehicle standard on child side impact, including data analyses as to how children are being injured or killed in side impacts, potential countermeasures that would be available to reduce side impact intrusion, and the appropriate child test dummy and associated injury criteria for side impact testing (68 FR 37620, 37624). NHTSA's research into side impact protection has continued as an ongoing agency program.

NHTSA will present the status of its current research effort, and other panelists that have knowledge of the side impact issue will be invited to participate on the panel.

Regarding LATCH Education

NHTSA would like to develop educational messages to improve consumers' awareness of the benefits of the top tether and the convenience of the LATCH lower anchors. We also seek cooperation and coordination of efforts between NHTSA, child restraint and vehicle manufacturers, retailers, and educators, to develop and promote communications strategies that will reach parents and caregivers of young children.

Invited speakers are asked to speak to the following questions:

• What questions have users asked your organization with regard to—

Tether use;

Lower anchor use;

Center rear seat use?

• What public information and marketing strategies are being conducted to inform consumers of proper or optimal use of child restraints?

• What could organizations do to reach consumers more broadly and provide more useful information to consumers about child restraint installation?

• What information should we provide consumers regarding the effectiveness of seat belts versus LATCH in securing child restraints?

Other Procedural Matters

The meeting will be open to the public with advanced registration for seating on a space-available basis. Individuals wishing to register to assure a seat in the public seating area should provide their name, affiliation, phone number and e-mail address to Ms. Ascone using the contact information at the beginning of this notice. Should it be necessary to cancel the meeting due to inclement weather or other emergency, NHTSA will take all available measures to notify registered participants by e-mail or telephone.

The meeting will be held at a site accessible to individuals with disabilities. Individuals who require accommodations such as sign language interpreters should contact Ms. Ascone by January 31, 2007.

A transcript of the meeting and other information received by NHTSA at the meeting will be placed in the docket for this notice at a later date.

Draft Agenda

8:30-9 Welcome and Opening Remarks.

9-9:10 Panel I. LATCH systems (overview)—NHTSA.

9:10-10:15 Invited speakers on LATCH systems.

10:15-10:30 Break.

10:30-10:40 Panel II. Ease-of-use issues/initiatives—NHTSA.

10:40-11:30 Invited speakers on LATCH ease-of-use (EOU).

11:30-12 Roundtable discussion and questions from floor.

12-1 Lunch on your own.

1-1:10 Panel III. Child side impact safety (overview)—NHTSA.

1:10-1:50 Invited speakers on side impact.

1:50-2:05 Break.

2:10-2:20 Panel IV. Educational needs (overview)—NHTSA.

2:20-3:20 Invited speakers on LATCH education.

3:20-3:50 Roundtable discussion and open floor.

3:50-4:15 Next steps; wrap-up.

How can I submit comments on this subject?

It is not necessary to attend or to speak at the public meeting to be able to comment on the issues. NHTSA invites readers to submit written comments which the agency will consider in its deliberations on LATCH.

How do I prepare and submit comments?

Your comments must be written and in English. To ensure that your comments are correctly filed in the Docket, please include the docket number of this document in your comments.

Your primary comments must not be more than 15 pages long (49 CFR 553.21). However, you may attach additional documents to your primary comments. There is no limit on the length of the attachments.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, send three copies of your complete submission, including the information you claim to be confidential business information, to the Chief Counsel, National Highway Traffic Safety Administration, Room 5219, 400 Seventh Street, SW., Washington, DC 20590. Include a cover letter supplying the information specified in our confidential business information regulation (49 CFR part 512).

In addition, send two copies from which you have deleted the claimed confidential business information to Docket Management, Room PL-401, 400 Seventh Street, SW., Washington, DC 20590, or submit them electronically, in the manner described at the beginning of this notice.

Will the agency consider late comments?

We will consider all comments that Docket Management receives before the close of business on the comment closing date indicated above under DATES. To the extent possible, we will also consider comments that Docket Management receives after that date.

Please note that even after the comment closing date, we will continue to file relevant information in the docket as it becomes available. Further, some people may submit late comments. Accordingly, we recommend that you periodically check the docket for new material.

How can I read the comments submitted by other people?

You may read the comments by visiting Docket Management in person at Room PL-401, 400 Seventh Street, SW., Washington, DC from 10 a.m. to 5 p.m., Monday through Friday.

You may also see the comments on the Internet by taking the following steps:

Go to the Docket Management System (DMS) Web page of the Department of Transportation (http://dms.dot.gov).

On that page, click on “Simple Search.”

On the next page (http://dms.dot.gov/search/searchFormSimple.cfm/) type in the five-digit docket number shown at the beginning of this notice. Click on “Search.”

On the next page, which contains docket summary information for the docket you selected, click on the desired comments. You may also download the comments.

Authority: 49 U.S.C. 30111, 30168; delegation of authority at 49 CFR 1.50 and 501.8.

Issued on January 19, 2007.
Nicole R. Nason,
Administrator.

[FR Doc. E7-1021 Filed 1-23-07; 8:45 am]

BILLING CODE 4910-59-P